DEPARTMENT OF HEALTH AND HUMAN SERVICES

Centers for Disease Control and Prevention

Prospective Grant of a Co-Exclusive License: Natural Plant Extracts From Incense Cedar as Pest Control Agents and Methods for Their Use

AGENCY: Centers for Disease Control and Prevention (CDC), Department of Health and Human Services (HHS).

ACTION: Notice.

SUMMARY: This is a notice in accordance with 35 U.S.C. 209(e) and 37 CFR 404.7(a)(1)(i) that the Technology Transfer Office of the Centers for Disease Control and Prevention (CDC), located within the Department of Health and Human Services (HHS), is contemplating the grant of worldwide co-exclusive licenses to practice the inventions embodied in the patents referred to below to Allylix, Incorporated and Valent BioSciences Corporation, having places of business in San Diego, CA and Libertyville, IL, respectively. The patent rights in these inventions have been assigned to the government of the United States of America. The patent(s) to be licensed are:

U.S. Pat. No. 7,629,387, “Compounds for Pest Control and Methods for Their Use,” issued December 8, 2009; and U.S. Pat. No. 7,129,271, “Compounds for Pest Control and Methods for Their Use,” issued October 31, 2006; and all related foreign patent applications. Inventors: Marc C. Dolan, Nicholas A. Panella, Joseph J. Karchesy, Gary O. Maupin. [CDC Tech. ID No. I-024-00]; and U.S. Pat. No. 7,230,033, “Pest Control Compositions and Methods for Their Use,” issued June 12, 2007. Inventors: Marc C. Dolan, Nicholas A. Panella, Gabrielle E. B. Dietrich, Joseph J. Karchesy, Gary O. Maupin [CDC Tech. ID No. I-028-04].

Additional rights to be licensed are: “Natural Plant Extracts from Incense Cedar as Pest Control Agents and Methods for Their Use,” submitted February 21, 2008. Inventors: Marc C. Dolan, Nicholas A. Panella, and Joseph J. Karchesy [CDC Tech. ID No. I-019-08].

Patent Status: Various.

Earliest Priority Date: December 8, 2000.

The prospective co-exclusive licenses will be royalty-bearing and will comply with the terms and conditions of 35 U.S.C. 209 and 37 CFR 404.7.

Technology

This technology identifies biologically active fractions of essential oil of Alaska yellow cedar which are insecticidal and acaricidal. These natural compounds were found to be active for up to 11 weeks against the tick vector, Ixodes scapularis; the mosquito vector, Aedes aegypti; and the flea vector, Xenopsylla cheopsis.

ADDRESSES: Requests for copies of these patent applications, patents, and technology disclosures, inquiries, comments, and other materials relating to the contemplated license should be directed to Andrew Watkins, J.D., Ph.D., Director, Technology Transfer Office, Centers for Disease Control and Prevention (CDC), 4770 Buford Highway, Mailstop K-79, Atlanta, GA 30341, telephone: (770) 488-8600; facsimile: (770) 488-8615.

Applications for a license filed in response to this notice will be treated as objections to the grant of the contemplated licenses. Only written comments and/or applications for a license which are received by CDC within thirty days of this notice will be considered. Comments and objections submitted in response to this notice will not be made available for public inspection, and, to the extent permitted by law, will not be released under the Freedom of Information Act, 5 U.S.C. 552.

Dated: August 25, 2010.
Tanja Popovic,
Deputy Associate Director for Science, Centers for Disease Control and Prevention.

[FR Doc. 2010-21643 Filed 8-30-10; 8:45 am]

BILLING CODE 4163-18-P